Title 3—

The President

Proclamation 8650 of April 8, 2011

National Crime Victims’ Rights Week, 2011

By the President of the United States of America

A Proclamation

Though our homes and neighborhoods are safer than they have been in decades, millions of Americans still become victims of crime each year. For many citizens, a sense of security remains painfully elusive, and we must continue to fight crime wherever it exists.

During National Crime Victims’ Rights Week, we renew our commitment to assisting those who have been victimized by crime and supporting those who help survivors rebuild their lives. Crisis counselors, law enforcement professionals, legal advocates, safe haven staff, and other service providers help victims meet basic needs and find renewed hope for their future.

My Administration remains focused on advancing the progress made in preventing crime and enforcing the rights of its survivors. We have shined a light on hidden crimes like cyberbullying, online child sexual exploitation, and sexual assault on college campuses. Through the President’s Interagency Task Force to Monitor and Combat Trafficking in Persons, we are coordinating efforts to address this heinous offense and support its victims. The Tribal Law and Order Act I signed into law last year gives Native communities new tools to fight crime and greater resources to assist American Indian and Alaska Native women who have been the victims of sexual assault or domestic abuse.

To avoid the recurrence of another financial crisis, we are also working to prevent and prosecute financial crimes. My Administration’s Financial Fraud Enforcement Task Force helps combat fraud and restore losses suffered by individuals affected by predatory lending, mortgage fraud, and other deceptive financial practices.

For assistance, resources, or additional information, Americans can visit: www.CrimeVictims.gov. As we commemorate National Crime Victims’ Rights Week, we reaffirm our pledge to join in supporting crime victims and creating safer communities.

NOW, THEREFORE, I, BARACK OBAMA, President of the United States of America, by virtue of the authority vested in me by the Constitution and the laws of the United States, do hereby proclaim April 10 through April 16, 2011, as National Crime Victims’ Rights Week. I call upon all Americans to observe this week by participating in events that raise awareness of victims’ rights and services and by volunteering to serve victims in their time of need.

IN WITNESS WHEREOF, I have hereunto set my hand this eighth day of April, in the year of our Lord two thousand eleven, and of the Independence of the United States of America the two hundred and thirty-fifth.

[FR Doc. 2011-9142

Filed 4-12-11; 11:15 am]

Billing code 3195-W1-P